LEGAL SERVICES CORPORATION

Notice of Availability of Calendar Year 2001 Competitive Grant Funds

AGENCY: Legal Services Corporation.

ACTION: Solicitation for Proposals for the Provision of Civil Legal Services.

SUMMARY: The Legal Services Corporation (LSC or Corporation) is the national organization charged with administering federal funds provided for civil legal services to the poor.

The Corporation hereby announces the availability of competitive grant funds and is soliciting grant proposals from interested parties who are qualified to provide effective, efficient and high quality civil legal services to eligible clients in the states and territories, by service area(s) identified below. The exact amount of congressionally appropriated funds and the date, terms and conditions of their availability for calendar year 2001 have not been determined.

DATES: See Supplementary Information section for grants competition dates.

ADDRESSES: Legal Services Corporation—Competitive Grants, 750 First Street NE, 10th Floor, Washington, DC 20002-4250.

FOR FURTHER INFORMATION CONTACT: Office of Program Performance, Competitive Grants—Service Desk at (202) 336-8900, by FAX at (202) 336-7272, by e-mail at competition@lsc.gov, or visit the LSC web site at www.ain.lsc.gov.

SUPPLEMENTARY INFORMATION: Request for Proposals (RFP) will be available April 24, 2000. The due dates for the Notice of Intent to Compete and Grant Proposals follow.

Applicants competing for service areas in Alabama, Arizona, Arkansas, Connecticut, Delaware, District of Columbia, Florida, Georgia, Guam, Hawaii, Idaho, Illinois, Iowa, Kansas, Louisiana, Maine, Maryland, Massachusetts, Minnesota, Mississippi, Montana, Nevada, New Hampshire, New Jersey, New Mexico, New York, North Carolina, North Dakota, Ohio, Oklahoma, Oregon, Puerto Rico, Rhode Island, South Carolina, South Dakota, Tennessee, Texas, Utah, Vermont, Virgin Islands, Washington, Wisconsin, or Wyoming must submit the notice of intent to compete by June 2, 2000, 5:00 p.m. EDT. Grant proposals for service areas in these states must be submitted by June 19, 2000, 5:00 p.m. EDT.

Applicants competing for service areas in California, Colorado, Indiana, Kentucky, Michigan, Missouri, Nebraska, Pennsylvania, Virginia, or West Virginia must submit the notice of intent to compete by June 30, 2000, 5:00 p.m. EDT. Grant proposals for service areas in these states must be submitted by July 17, 2000, 5:00 p.m. EDT.

LSC is seeking proposals from: (1) Non-profit organizations that have as a purpose the furnishing of legal assistance to eligible clients; (2) private attorneys; (3) groups of private attorneys or law firms; (4) State or local governments; and (5) substate regional planning and coordination agencies which are composed of substate areas and whose governing boards are controlled by locally elected officials.

The RFP, containing the grant application, guidelines, proposal content requirements and specific selection criteria, is available from the LSC web site at www.ain.lsc.gov. LSC will not FAX the solicitation package to interested parties.

Below are the service areas for which LSC is requesting grant proposals. Service area descriptions are available from Appendix A of the RFP. The RFP will be available April 24, 2000, at www.ain.lsc.gov.

State | Service area
Alabama | MAL
Arizona | MAZ
Arkansas | MAR
California | CA-2, CA-12 CA-14, CA-19, CA-26, CA-29, CA-30, CA-31, MCA
Colorado | CO-6, MCO, NCO-1
Connecticut | MMX-1
Delaware | MDE
District of Columbia | DC-1
Florida | FL-4, FL-7, FL-9, MFL, NFL-1
Georgia | MGA
Guam | GU-1
Hawaii | MHI
Idaho | MID
Illinois | IL-6, MIL
Indiana | IN-5, MIN
Iowa | IA-1, IA-2, MIA
Kansas | MKS
Kentucky | KY-2, KY-3, KY-5, KY-9, KY-8, MKY
Louisiana | MLA
Maine | MMX-1
Maryland | MMD
Massachusetts | MMX-1
Michigan | MI-1, MI-2, MI-3, MI-4, MI-5, MI-6, MI-7, MI-8, MI-9, MI-10, MI-11, MMI, NMI-1
Minnesota | MMN
Mississippi | MMS
Missouri | MO-3, MO-4, MO-5, MO-7, MMO
Montana | MMT
Nebraska | NE-4, MNE, NNE-1
Nevada | MNV
New Hampshire | MMX-1
New Jersey | MNJ
New Mexico | MNM
New York | MNY, NNY-1
North Carolina | NC-1, NC-2, NC-3, NC-4, MNC, NNC-1
North Dakota | ND-1, ND-2, MND, NND-1, NND-2
Ohio | OH-21, MOH
Oklahoma | MOK
Oregon | OR-2, OR-4, OR-5, MOR, NOR-1
Pennsylvania | PA-1, PA-5, PA-8, PA-11, PA-23, PA-24, PA-25, PA-26, MPA
Puerto Rico | PR-1, PR-2, MPR
Rhode Island | MMX-1
South Carolina | MSC
South Dakota | SD-1, SD-2, SD-3, MSD, NSD-1
Tennessee | MTN
Texas | TX-4, TX-6, TX-8, TX-9, MTX
Utah | MUT
Vermont | MMX-1
Virgin Islands | VI-1
Virginia | VA-1, VA-3, VA-15, VA-16, VA-17, VA-18, VA-19, MVA
Washington | MWA
West Virginia | WV-3, WV-4, MWV
Wisconsin | WI-1, WI-2, WI-3, WI-4, MWI, NWI-1
Wyoming | WY-4, MWY, NWY-1

Dated: April 14, 2000.
Michael A. Genz,
Director, Office of Program Performance.

[FR Doc. 00-9874 Filed 4-20-00; 8:45 am]

BILLING CODE 7050-01-P